DEPARTMENT OF COMMERCE

International Trade Administration

(A-588-046)

Polychloroprene Rubber From Japan: Final Results of Changed Circumstances Review and Determination To Revoke Antidumping Duty Finding, in Part

AGENCY: Import Administration, International Trade Administration, Department of Commerce.

SUMMARY: On September 29, 2008, the Department of Commerce (the Department) published a notice of initiation and preliminary results of a changed circumstances review with intent to revoke, in part, the antidumping duty (AD) finding on polychloroprene rubber from Japan. See Polychloroprene Rubber From Japan: Initiation and Preliminary Results of Changed Circumstances Review, and Intent to Revoke Antidumping Duty Finding, in Part, 73 FR 56548 (September 29, 2008) (Initiation and Preliminary Results). On October 27, 2008, the Federal Register corrected certain errors it made in publishing the Initiation and Preliminary Results. See Polychloroprene Rubber From Japan: Initiation and Preliminary Results of Changed Circumstances Review, and Intent to Revoke Antidumping Duty Finding, in Part, 73 FR 63687 (October 27, 2008) (Initiation Correction).

In the Initiation and Preliminary Results and Initiation Correction, the Department invited interested parties to comment on the Initiation and Preliminary Results and no comments were received. Accordingly, we are now revoking this AD finding, in part, with regard to certain polychloroprene rubber products from Japan, as described in the “Scope of Changed Circumstances Review” section of this notice, based on the fact that domestic parties have expressed no further interest in the relief provided by the AD finding with respect to the imports of such products.

EFFECTIVE DATE: December 18, 2008.

FOR FURTHER INFORMATION CONTACT: Summer Avery, AD/CVD Operations, Office 6, Import Administration, International Trade Administration, U.S. Department of Commerce, 14th Street and Constitution Avenue, N.W., Washington DC 20230; telephone: (202) 482-4052.

SUPPLEMENTARY INFORMATION:

Background

On August 4, 2008, the Department received a request on behalf of the petitioner, DuPont Performance Elastomers L.L.C. (DPE),¹ for revocation, in part, of the AD finding on polychloroprene rubber from Japan pursuant to sections 751(b)(1) and 782(h) of the Tariff Act of 1930, as amended (the Act). DPE requested partial revocation of the AD finding with respect to certain polychloroprene rubber products, listed below in the section entitled “Scope of Changed Circumstances Review.” In its August 4, 2008 submission, DPE stated that it no longer has any interest in antidumping relief from imports of such polychloroprene rubber from Japan. On September 29, 2008, the Department published a notice of initiation and preliminary results of a changed circumstances review with intent to revoke, in part, the AD finding on polychloroprene rubber from Japan. See Initiation and Preliminary Results. In preparing the notice for publication, the Federal Register made a number of substantive errors during its technical preparation of the Initiation and Preliminary Results for publication. On October 27, 2008, the Federal Register published corrections of these errors. See Initiation Correction. The Department provided interested parties with a deadline to submit written comments no later than 30 days after the date of the Initiation Correction. The Department did not receive any comments from interested parties.

¹ DPE is the sole petitioner in this antidumping proceeding. See Polychloroprene Rubber From Japan: Final Results of the Expedited Sunset Review of the Antidumping Duty Finding, 69 FR 64276 (November 4, 2004). DPE has been the sole U.S. producer of polychloroprene rubber since 1998, when Bayer Group closed its polychloroprene rubber plant in Houston, Texas. See Polychloroprene Rubber from Japan, Inv. No. AA-1921-129 (Second Review), U.S. ITC Pub. 3786 (June 2005), at 4-5.

Scope of Changed Circumstances Review

The merchandise subject to DPE's request and covered by this changed circumstances review is polychloroprene rubber from Japan with aqueous dispersions of 2-chlorobutadiene-1,3 homopolymers, where the polymer content of the dispersion is between 55 weight percent and 61 weight percent and the dispersed homopolymer contains less than 10 weight percent of a tetrahydrofuran-insoluble fraction. This changed circumstances review covers polychloroprene rubber from Japan meeting the specifications as described above. Effective upon publication of these final results of changed circumstances review in the Federal Register, the amended scope of the AD finding will read as identified in the “Scope of the Finding (As Amended By These Final Results of Changed Circumstances)” section below.

Scope of the Finding (As Amended By These Final Results of Changed Circumstances)

The merchandise covered are shipments of polychloroprene rubber, an oil resistant synthetic rubber also known as polymerized chlorobutadiene or neoprene, currently classifiable under items 4002.41.00, 4002.49.00, and 4003.00.00 of the Harmonized Tariff Schedule of the United States (HTSUS). Although HTSUS item numbers are provided for convenience and customs purpose, the Department's written description of the scope remains dispositive.

The following types of polychloroprene rubber from Japan are excluded from the scope: (1) aqueous dispersions of polychloroprenes that are dipolymers of chloroprene and methacrylic acid, where the dispersion has a pH of 8 or lower (this category is limited to aqueous dispersions of these polymers and does not include aqueous dispersions of these polychloroprenes that contain comonomers other than methacrylic acid); (2) aqueous dispersions of polychloroprenes that are dipolymers of chloroprene and 2,3-dichlorobutadiene-1,3 modified with xanthogen disulfides, where the dispersion has a solids content of greater than 59 percent (this category is limited to aqueous dispersions of these polymers and does not include aqueous dispersions of polychloroprenes that contain comonomers other than 2,3-dichlorobutadiene-1,3); and (3) solid polychloroprenes that are dipolymers of chloroprene and 2,3-dichlorobutadiene-1,3 having a 2,3-dichlorobutadiene-1,3 content of 15 percent or greater (this category is limited to polychloroprenes in solid form and does not include aqueous dispersions).

In addition, the following types of polychloroprene rubber are excluded from the scope: 1) solid polychloroprenes that are dipolymers of chloroprene and methacrylic acid having methacrylic acid comonomer content in the 0.2 percent to 5.0 percent range (this category does not include aqueous chloroprene/methacrylic acid diploymer dispersion products or solvent solutions of chloroprene/methacrylic acid dipolymers),² and 2) aqueous dispersions of 2-chlorobutadiene-1,3 homopolymers, where the polymer content of the dispersion is between 55 weight percent and 61 weight percent and the dispersed homopolymer contains less than 10 weight percent of a tetrahydrofuran-insoluble fraction.

² See Polychloroprene Rubber from Japan: Final Results of Changed Circumstances Review and Determination to Revoke Antidumping Duty Finding in Part, 73 FR 64914 (October 31, 2008).

Final Results of Review: Partial Revocation of Antidumping Duty Finding

The affirmative statement of no interest by the petitioner concerning certain polychloroprene rubber from Japan, as described herein, constitutes changed circumstances sufficient to warrant revocation of the AD finding in part. Therefore, the Department is revoking, in part, the AD finding on polychloroprene rubber from Japan with regard to products which meet the specifications detailed above, in accordance with sections 751(b) and (d) and 782(h) of the Act and 19 CFR 351.216(d) and 351.222(g). We will instruct U.S. Customs and Border Protection to terminate the suspension of liquidation of entries of certain polychloroprene rubber, meeting the specifications indicated above, entered, or withdrawn from warehouse, for consumption on or after the date of publication in the Federal Register of the final results of this changed circumstances review, in accordance with 19 CFR 351.222. Entries of subject merchandise prior to the effective date of revocation will continue to be subject to suspension of liquidation and antidumping duty deposit requirements.

This notice serves as a reminder to parties subject to administrative protective order (APO) of their responsibility concerning the disposition of proprietary information disclosed under APO in accordance with 19 CFR 351.306. Timely written notification of the return/destruction of APO materials or conversion to judicial protective order is hereby requested. Failure to comply is a violation of the APO which may be subject to sanctions.

The Department is issuing this changed circumstances review, partial revocation of the AD finding, and this notice in accordance with sections 751(b) and (d), 777(i), and 782(h) of the Act and 19 CFR 351.216(e) and 351.222(g).

Dated: December 11, 2008.
Stephen J. Claeys,
Deputy Assistant Secretary for Antidumping and Countervailing Duty Operations.

[FR Doc. E8-30113 Filed 12-17-08; 8:45 am]

BILLING CODE 3510-DS-S